COMMITTEE FOR THE IMPLEMENTATION OF TEXTILE AGREEMENTS

Adjustment of Import Limits for Certain Cotton and Man-Made Fiber Textile Products Produced or Manufactured in India

May 8, 2001.

AGENCY: Committee for the Implementation of Textile Agreements (CITA).

ACTION: Issuing a directive to the Commissioner of Customs adjusting limits.

EFFECTIVE DATE: May 15, 2001.

FOR FURTHER INFORMATION CONTACT: Ross Arnold, International Trade Specialist, Office of Textiles and Apparel, U.S. Department of Commerce, (202) 482-4212. For information on the quota status of these limits, refer to the Quota Status Reports posted on the bulletin boards of each Customs port, call (202) 927-5850, or refer to the U.S. Customs website at http://www.customs.gov. For information on embargoes and quota re-openings, refer to the Office of Textiles and Apparel website at http://otexa.ita.doc.gov.

SUPPLEMENTARY INFORMATION:

Authority: Section 204 of the Agricultural Act of 1956, as amended (7 U.S.C. 1854); Executive Order 11651 of March 3, 1972, as amended.

The current limits for certain categories are being increased for the recrediting of carryforward.

A description of the textile and apparel categories in terms of HTS numbers is available in the CORRELATION: Textile and Apparel Categories with the Harmonized Tariff Schedule of the United States (see Federal Register notice 65 FR 82328, published on December 28, 2000). Also see 65 FR 79344, published on December 19, 2000.

J. Hayden Boyd,
Acting Chairman, Committee for the Implementation of Textile Agreements.

Committee for the Implementation of Textile Agreements

May 8, 2001.

Commissioner of Customs,

Department of the Treasury, Washington, DC 20229.

Dear Commissioner: This directive amends, but does not cancel, the directive issued to you on December 13, 2000, by the Chairman, Committee for the Implementation of Textile Agreements. That directive concerns imports of certain cotton, man-made fiber, silk blend and other vegetable fiber textiles and textile products, produced or manufactured in India and exported during the twelve-month period which began on January 1, 2001 and extends through December 31, 2001.

Effective on May 15, 2001, you are directed to increase the limits for the following categories, as provided for under the Uruguay Round Agreement on Textiles and Clothing:

Category | Adjusted twelve-month limit ¹
Levels in Group I |
326 | 10,767,061 square meters.
334/634 | 181,088 dozen.
335/635 | 806,200 dozen.
336/636 | 1,152,790 dozen.
338/339 | 4,527,934 dozen.
340/640 | 2,335,802 dozen.
341 | 4,967,483 dozen of which not more than 3,004,725 dozen shall be in Category 341-Y ².
342/642 | 1,632,558 dozen.
345 | 255,486 dozen.
347/348 | 822,431 dozen.
351/651 | 345,091 dozen.
363 | 56,656,554 numbers.
369-D ³ | 1,689,182 kilograms.
641 | 1,900,714 dozen.
647/648 | 1,103,727 dozen.
Group II |
200, 201, 220-227, 237, 239pt. ⁴, 300, 301, 331-333, 350, 352, 359pt. ⁵, 360-362, 600-604, 606 ⁶, 607, 611-629, 631, 633, 638, 639, 643-646, 649, 650, 652, 659pt. ⁷, 666, 669pt. ⁸, 670, 831, 833-838, 840-858 and 859pt. ⁹, as a group | 149,797,032 square meters equivalent.

¹ The limits have not been adjusted to account for any imports exported after December 31, 2000.
² Category 341-Y: only HTS numbers 6204.22.3060, 6206.30.3010, 6206.30.3030 and 6211.42.0054.
³ Category 369-D: only HTS numbers 6302.60.0010, 6302.91.0005 and 6302.91.0045.
⁴ Category 239pt.: only HTS number 6209.20.5040 (diapers).
⁵ Category 359pt.: all HTS numbers except 6406.99.1550.
⁶ Category 606: all HTS numbers except 5403.31.0040 (for administrative purposes Category 606 is designated as 606(1)).
⁷ Category 659pt.: all HTS numbers except 6406.99.1510 and 6406.99.1540.
⁸ Category 669pt.: all HTS numbers except 5601.10.2000, 5601.22.0090, 5607.49.3000, 5607.50.4000 and 6406.10.9040.
⁹ Category 859pt.: only HTS numbers 6115.19.8040, 6117.10.6020, 6212.10.5030, 6212.10.9040, 6212.20.0030, 6212.30.0030, 6212.90.0090, 6214.10.2000 and 6214.90.0090.

The Committee for the Implementation of Textile Agreements has determined that these actions fall within the foreign affairs exception to the rulemaking provisions of 5 U.S.C. 553(a)(1).

Sincerely,

J. Hayden Boyd,

Acting Chairman, Committee for the Implementation of Textile Agreements.

[FR Doc. 01-12055 Filed 5-11-01; 8:45 am]

BILLING CODE 3510-DR-F